DEPARTMENT OF THE TREASURY

Submission for OMB Review; Comment Request

December 18, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 27, 2003 to be assured of consideration.

Internal Revenue Service (IRS)

OMB Number: 1545-0013.

Form Number: IRS Form 56.

Type of Review: Extension.

Title: Notice Concerning Fiduciary Relationship.

Description: Form 56 is used to inform the IRS that a person is acting for another person in a fiduciary capacity so that the IRS may mail tax notices to the fiduciary concerning the person for whom he/she is acting. The data is used to ensure that the fiduciary relationship is established or terminated and to mail or discontinue mailing designated to the fiduciary.

Respondents: Business or other for-profit, individuals or households.

Estimated Number of Respondents/Recordkeepers: 25,000.

Estimated Burden Hours Per Respondent/Recordkeeper:

Recordkeeping—8 min.

Learning about the law or the form—32 min.

Preparing the form—46 min.

Copying, assembling, and sending the forms to the IRS—15 min.

Frequency of Response: On occasion.

Estimated Total Reporting/Reporting Burden: 292,800 hours.

OMB Number: 1545-0143.

Form Number: IRS Form 2290.

Type of Review: Extension.

Title: Heavy Highway Vehicle Use Tax Return.

Description: Form 2290 is used to compute and report the tax imposed by section 4481 on the highway use of certain motor vehicles. The information is used to determine whether the taxpayer has paid the correct amount of tax.

Respondents: Business or other for-profit.

Estimated Number of Respondents/Recordkeepers: 440,000.

Estimated Burden Hours Per Respondent/Recordkeeper:

Recordkeeping—42 hr., 4 min.

Learning about the law or the form—18 min.

Preparing, copying, and sending the form to the IRS—58 min.

Frequency of Response: Annually.

Estimated Total Reporting/Recordkeeping Burden: 17,443,600 hours.

OMB Number: 1545-0430.

Form Number: IRS Form 4810.

Type of Review: Extension.

Title: Request for Prompt Assessment under Internal Revenue Code Section 6501(d).

Description: Form 4810 is used to request a prompt assessment under Internal Revenue Code (IRC) Section 6501(d). IRS uses this form to locate the return to expedite processing of the taxpayer's request.

Respondents: Business or other for-profit, individual or households, farms, Federal Government.

Estimated Number of Respondents: 4,000.

Estimated Burden Hours Per Respondent: 30 minutes.

Frequency of Response: On occasion, Other (as necessary).

Estimated Total Reporting Burden: 2,000 hours.

OMB Number: 1545-0666.

Form Number: IRS Form 673.

Type of Review: Revision.

Title: Statement for Claiming Benefits Provided by Section 911 of the Internal Revenue Code.

Description: Form 673 is completed by a citizen of the United States and is furnished to his or her employer in order to exclude from income tax withholding all or part of the wages paid the citizen for services performed outside the United States.

Respondents: Individuals or households.

Estimated Number of Respondents/Recordkeepers: 50,000.

Estimated Burden Hours Per Respondent/Recordkeeper:

Recordkeeping—33 min.

Learning about the law or the form—7 min.

Preparing the form—24 min.

Copying, assembling, and sending the form to the IRS—20 min.

Frequency of Response: On occasion.

Estimated Total Reporting/Recordkeeping Burden: 71,000 hours.

OMB Number: 1545-1221.

Regulation Project Number: EE-147-87 Final.

Type of Review: Extension.

Title: Qualified Separate Lines of Business.

Description: The affected public includes employers who maintain qualified employee retirement plans. Where applicable, the employer must furnish notice to the IRS that the employer treats itself as operating qualified separate lines of business and some may request an IRS determination that such lines satisfy administrative scrutiny.

Respondents: Business or other for-profit.

Estimated Number of Respondents/Recordkeepers: 253.

Estimated Burden Hours Per Respondent/Recordkeeper: 3 hours, 27 minutes.

Frequency of Response: Annually.

Estimated Total Reporting/Recordkeeping Burden: 899 hours.

OMB Number: 1545-1799.

Notice Number: Notice 2002-69.

Type of Review: Extension.

Title: Interest Rates and Appropriate Foreign Loss Payment Patterns for Determining the Qualified Insurance Income of Certain Controlled Corporations under Section 954(i).

Description: Notice 2002-69 provides guidance on how to determine the foreign loss payment patterns a foreign insurance company owned by U.S. shareholders for purposes .of determining the amount of investment income earned by the insurance company that is not treated as Subpart F income under section 954(i).

Respondents: Business or other for-profit.

Estimated Number of Respondents/Recordkeepers: 300.

Estimated Burden Hours Per Respondent/Recordkeeper: 1 hour.

Estimated Total Reporting/Recordkeeping Burden: 300 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Departmental Reports Management Officer.

[FR Doc. 02-32637 Filed 12-26-02; 8:45 am]

BILLING CODE 4830-01-P